DEPARTMENT OF ENERGY

Federal Energy Regulatory Commission

[Project No. 6951-018]

Tallassee Shoals, LLC; Notice of Waiver of Water Quality Certification

On September 15, 2021, Tallassee Shoals, LLC. filed an application for a new license for the Tallassee Shoals Hydroelectric Project (project) in the above captioned docket. On August 12, 2022, Tallassee Shoals, LLC. filed with the Georgia Environmental Protection Division, a request for water quality certification for the project under section 401(a)(1) of the Clean Water Act.

On September 2, 2022, staff provided the certifying authority with written notice pursuant to 40 CFR 121.6(b) that the applicable reasonable period of time for the state to act on the certification request was one (1) year from the date of receipt of the request, and that the certification requirement for the license would be waived if the certifying authority failed to act by August 12, 2023. Because the state did not act by August 12, 2023, we are notifying you pursuant to 40 CFR 121.9(c), and section 401(a)(1) of the Clean Water Act, 33 U.S.C. 1341(a)(1), that waiver of the certification requirement has occurred.

Dated: August 31, 2023.
Kimberly D. Bose,
Secretary.

[FR Doc. 2023-19293 Filed 9-6-23; 8:45 am]

BILLING CODE 6717-01-P